DEPARTMENT OF THE INTERIOR

Fish and Wildlife Service

[FWS-R4-ES-2012-N068; 40120-1112-0000-F2]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below, by April 19, 2012.

ADDRESSES: Documents and other information submitted with the applications are available for review, subject to the requirements of the Privacy Act and Freedom of Information Act, by any party who submits a written request for a copy of such documents to the following office within 30 days of the date of publication of this notice: U.S. Fish and Wildlife Service, 1875 Century Boulevard, Suite 200, Atlanta, GA 30345 (Attn: Cameron Shaw, Permit Coordinator).

FOR FURTHER INFORMATION CONTACT: Cameron Shaw, telephone 904/731-3191; facsimile 904/731-3045.

SUPPLEMENTARY INFORMATION: The public is invited to comment on the following applications for permits to conduct certain activities with endangered and threatened species pursuant to section 10(a)(1)(A) of the Endangered Species Act of 1973, as amended (16 U.S.C. 1531 et seq.) and our regulations in the Code of Federal Regulations (CFR) at 50 CFR 17. This notice is provided under section 10(c) of the Act.

If you wish to comment, you may submit comments by any one of the following methods. You may mail comments to the Fish and Wildlife Service's Regional Office (see ADDRESSES section) or via electronic mail (email) to: permitsR4ES@fws.gov. Please include your name and return address in your email message. If you do not receive a confirmation from the Fish and Wildlife Service that we have received your email message, contact us directly at the telephone number listed above (see FOR FURTHER INFORMATION CONTACT section). Finally, you may hand deliver comments to the Fish and Wildlife Service office listed above (see ADDRESSES section).

Before including your address, telephone number, email address, or other personal identifying information in your comments, you should be aware that your entire comment—including your personal identifying information—may be made publicly available at any time. While you can ask us in your comments to withhold your personal identifying information from public review, we cannot guarantee that we will be able to do so.

Permit Application Number: TE-206872

Applicant: Joy O'Keefe, Indiana State University, Terre Haute, Indiana.

Applicant requests authorization for non-lethal take of gray bats (Myotis grisescens) for the purpose of conducting presence/absence surveys and collecting scientific data. This work will be conducted throughout the range of this species.

Permit Application Number: TE-206886

Applicant: Kentucky Division of Abandoned Mines, Frankfort, Kentucky.

Applicant requests authorization to conduct presence/absence surveys and to conduct scientific studies on the following species:

Indiana bat Myotis sodalis.

Gray bat Myotis grisescens.

Virginia big-eared bat Corynorhinus townsendii virginianus.

Ozark big-eared bat Corynorhinus townsendii ingens.

Relict Darter Etheostoma chienense.

Blackside dace Chrosomus cumberlandensis.

This work will be carried out on lands under the authority of the Kentucky Division of Abandoned Mines.

Permit Application Number: TE-65002A

Applicant: Robert Oney, Winchester, Kentucky.

Applicant requests authorization to conduct presence/absence surveys and to conduct scientific studies on the following species:

Indiana bat Myotis sodalis.

Gray bat Myotis grisescens.

Virginia big-eared bat Corynorhinus townsendii virginianus.

This work will be carried out in Kentucky.

Permit Application Number: TE-65346A

Applicant: Matthew Roberts, Berea Kentucky.

Applicant requests authorization for non-lethal take of gray bats (Myotis grisescens) and Indiana bats (Myotis sodalis) for the purpose of conducting presence/absence surveys and collecting scientific data. This work will be conducted throughout the range of these species.

Permit Application Number: TE-139474

Applicant: FTN Associates, LTD., Little Rock, Arkansas.

Applicant requests authorization for non-lethal take of American burying beetle (Nicrophorus americanus) while conducting presence/absence surveys in the State of Kansas.

Permit Application Number: TE-65550A

Applicant: Dale Gawlik, Florida Atlantic University, Boca Raton, Florida.

Applicant requests authorization to capture and collect biological specimens from wood storks (Mycteria Americana) while conducting scientific research in Dade and Collier Counties, Florida.

Permit Application Number: TE-171516

Applicant: Copperhead Environmental Consulting, Paint Lick, Kentucky.

Applicant requests the addition of Missouri, Indiana, Illinois and Ohio to the location authorized for conducting presence/absence surveys and scientific investigation on listed freshwater mussel species and authorization to conduct presence/absence surveys for the blackside dace (Chrosomus cumberlandensis).

Permit Application Number: TE-65968A

Applicant: Jason Dickey, Tallahassee, Florida.

Applicant requests authorization to conduct presence/absence surveys on the following freshwater mussel species:

Fat threeridge Amblema neislerii.

Shinyrayed pocketbook Hamiota subangulata.

Gulf moccasinshell Medionidus penicillatus.

Ochlockonee moccasinshell Medionidus simpsonianus.

Oval pigtoe Pleurobema pyriforme.

Chipola slabshell Elliptio chipolaensis.

Purple bankclimber Margaritifera marrianae.

These surveys will be conducted in Alabama, Georgia and Florida.

Permit Application Number: TE-66039A

Applicant: Arkansas Game and Fish Commission, Benton, Arkansas.

Applicant requests authorization to take (non-lethally) the Ozark hellbender (Cryptobranchus alleganiensis bishop) for the purpose of scientific research. This activity will take place in Arkansas.

Dated: March 5, 2012.
Mark J. Musaus,
Acting Regional Director.

[FR Doc. 2012-6643 Filed 3-19-12; 8:45 am]

BILLING CODE 4310-55-P